DEPARTMENT OF STATE

[Public Notice 8334]

In the Matter of the Designation of the Moroccan Islamic Combatant Group aka Groupe Islamique Combattant Marocain (GICM) and All Associated Aliases as a Foreign Terrorist Organization Pursuant to Section 219 of the Immigration and Nationality Act, as Amended

Based upon a review of the Administrative Record assembled in this matter, and in consultation with the Attorney General and the Secretary of the Treasury, I conclude that the circumstances that were the basis for the designation of Moroccan Islamic Combatant Group as foreign terrorist organization have changed in such a manner as to warrant revocation of the designation.

Therefore, I hereby determine that the designation of the Moroccan Islamic Combatant Group as a foreign terrorist organization, pursuant to Section 219 of the Immigration and Nationality Act, as amended (8 U.S.C. 1189), shall be revoked.

This determination shall be published in the Federal Register.

Dated: May 13, 2013.
John F. Kerry,
Secretary of State.

[FR Doc. 2013-12611 Filed 5-24-13; 8:45 am]

BILLING CODE 4710-10-P